DEPARTMENT OF DEFENSE

Department of the Navy

Notice of Intent To Prepare a Supplemental Environmental Impact Statement/Overseas Environmental Impact Statement for Northwest Training and Testing

AGENCY: Department of the Navy, DoD.

ACTION: Notice.

SUMMARY: Pursuant to the National Environmental Policy Act (NEPA) of 1969 and regulations implemented by the Council on Environmental Quality, the Department of the Navy (DoN) announces its intent to prepare a supplement to the 2015 Final Northwest Training and Testing (NWTT) Environmental Impact Statement/Overseas Environmental Impact Statement (EIS/OEIS).

DATES: Public comments will be accepted during the 30-day scoping period from August 22, 2017 to September 21, 2017. Public scoping meetings will not be held. However, public meetings are planned to occur following the release of the Draft Supplemental EIS/OEIS in early 2019.

ADDRESSES: The DoN invites scoping comments on the NWTT Supplemental EIS/OEIS from all interested parties. Substantive comments may be provided by mail to the address below and through the project Web site at http://nwtteis.com/. Comments must be postmarked or received online by September 21, 2017 for consideration during the development of the Draft Supplemental EIS/OEIS.

FOR FURTHER INFORMATION CONTACT: John Mosher, (360) 257-3234, john.g.mosher@navy.mil. Naval Facilities Engineering Command Northwest, Attention: NWTT Supplemental EIS/OEIS Project Manager, 3730 North Charles Porter Avenue, Building 385, Oak Harbor, Washington 98278-3500.

SUPPLEMENTARY INFORMATION: The DoN will assess the potential environmental effects associated with ongoing and future at-sea military readiness activities conducted within the NWTT EIS/OEIS Study Area (hereafter known as the “Study Area”) beyond 2020. Military readiness activities include training and research, development, testing, and evaluation (hereafter known as “testing”). The Supplemental EIS/OEIS will include an analysis of training and testing activities using new information available after the release of the 2015 Final EIS/OEIS. New information includes an updated acoustic effects model, updated marine mammal density data, and evolving and emergent best available science. Proposed activities are generally consistent with those analyzed in the 2015 Final EIS/OEIS and are representative of training and testing activities the DoN has been conducting in the Study Area for decades.

The Study Area remains unchanged since the 2015 Final EIS/OEIS. The Study Area is comprised of established maritime operating areas and warning areas in the northeastern Pacific Ocean, including areas within the Strait of Juan de Fuca, Puget Sound, and the Western Behm Canal in southeastern Alaska. The Study Area includes air and water space within and outside Washington state waters, air and water space outside state waters of Oregon and Northern California, and DoN pierside locations where sound navigation and ranging (sonar) maintenance and testing occur. In the supplement to the 2015 Final EIS/OEIS, the DoN will only analyze those training and testing activities conducted at sea within the Study Area.

As part of this process, the DoN will seek the issuance of federal regulatory permits and authorizations under the Marine Mammal Protection Act and Endangered Species Act to support on-going and future at-sea military readiness activities within the Study Area beyond 2020.

Pursuant to 40 CFR 1501.6, the DoN will invite the National Marine Fisheries Service and the U.S. Coast Guard to be cooperating agencies in preparation of the Supplemental EIS/OEIS.

The DoN's lead action proponent is Commander, U.S. Pacific Fleet. Additional action proponents include Naval Sea Systems Command and Naval Air Systems Command.

The DoN's Proposed Action is to conduct at-sea training and testing activities within the Study Area. Activities include the use of active sonar and explosives while employing marine species protective mitigation measures. The Proposed Action does not alter the DoN's original purpose and need as discussed in the 2015 Final EIS/OEIS.

The purpose of the Proposed Action is to maintain a ready force, which is needed to ensure the DoN can accomplish its mission to maintain, train, and equip combat-ready naval forces capable of winning wars, deterring aggression, and maintaining freedom of the seas, consistent with Congressional direction in section 5062 of Title 10 of the U.S. Code. A Supplemental EIS/OEIS is considered the appropriate document, as there is recent scientific information including revised acoustic criteria to consider, in furtherance of NEPA, relevant to the environmental effects of the DoN's Proposed Action. The analysis will support Marine Mammal Protection Act authorization requests.

Proposed training and testing activities are generally consistent with those analyzed in the 2015 Final EIS/OEIS. In the Supplemental EIS/OEIS, the DoN will analyze the proposed changes to the tempo and types of training and testing activities, accounting for the introduction of new technologies, the evolving nature of international events, advances in warfighting doctrine and procedures, and changes in the organization of vessels, aircraft, weapons systems, and DoN personnel. In the NWTT Supplemental EIS/OEIS, the DoN will reflect the compilation of training and testing activities required to fulfill the DoN's military readiness requirements beyond 2020, and therefore includes the analysis of newly proposed activities and changes to previously analyzed activities.

In the Supplemental EIS/OEIS, the DoN will evaluate the potential environmental effects of a no action alternative and action alternatives. Resources to be evaluated include, but are not limited to, marine mammals, sea turtles, essential fish habitat, threatened and endangered species, and American Indian and Alaska Native Traditional Resources.

The scoping process is used to identify public concerns and local issues to be considered during the development of the Draft Supplemental EIS/OEIS. Federal agencies, state agencies, local agencies, the public, and interested persons are encouraged to provide substantive comments to the DoN on environmental resources and issue areas of concern the commenter believes the DoN should consider.

Comments must be postmarked or received online by September 21, 2017 for consideration during the development of the Draft Supplemental EIS/OEIS. Comments can be mailed to: Naval Facilities Engineering Command Northwest, Attention: NWTT Supplemental EIS/OEIS Project Manager, 3730 North Charles Porter Avenue, Building 385, Oak Harbor, Washington 98278-3500. Comments can be submitted online via the project Web site at http://www.nwtteis.com/. Also at this Web site, those interested in receiving electronic project updates can subscribe to receive notifications via email for key milestones throughout the environmental planning process.

Dated: August 16, 2017.
A.M. Nichols,
Lieutenant Commander, Judge Advocate General's Corps, U.S. Navy, Federal Register Liaison Officer.

[FR Doc. 2017-17618 Filed 8-21-17; 8:45 am]

BILLING CODE 3810-FF-P